DEPARTMENT OF DEFENSE

Office of the Secretary

[Transmittal Nos. 12-35]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-35 with attached transmittal and policy justification.

Dated: July 17, 2012.
Aaron Siegel,
Alternate OSD Federal Register Liaison Officer, Department of Defense.

BILLING CODE 5001-06-P

BILLING CODE 5001-06-C

Transmittal No. 12-35

Notice of Proposed Issuance of Letter of Offer Pursuant to Section 36(b)(1) of the Arms Export Control Act, as amended

(i) Prospective Purchaser: Poland

(ii) Total Estimated Value:

Major Defense Equipment * | $0 million
Other | $200 million
TOTAL | $200 million

(iii) Description and Quantity or Quantities of Articles or Services under Consideration for Purchase: 9 Ground Controlled Approach Systems, International Civil Aviation Organization (ICAO) Category II, with Primary Surveillance Radars (PSR), Precision Approach Radars (PAR), Secondary Surveillance Radars (SSR), Very High Frequency/Ultra High Frequency radio equipment, site surveys, systems installation and testing, spare and repair parts, tools and test equipment, personnel training and training equipment, technical data and publications, warranties, U.S. Government and contractor engineering, technical, and logistics support services, and other related elements of logistics support.

(iv) Military Department: Air Force (DAY)

(v) Prior Related Cases, if any: FMS case QAJ-$5M-19Mar10

(vi) Sales Commission, Fee, etc., Paid, Offered, or Agreed to be Paid: None

(vii) Sensitivity of Technology Contained in the Defense Article or Defense Services Proposed to be Sold: None

(viii) Date Report Delivered to Congress: July 11, 2012

* As defined in Section 47(6) of the Arms Export Control Act.

POLICY JUSTIFICATION

Poland—Ground Controller Approach Radar Systems

The Government of Poland has requested a possible sale of 9 Ground Controlled Approach Systems, ICAO Category II, with PSR, PAR, SSR, Very High Frequency/Ultra High Frequency radio equipment, site surveys, systems installation and testing, spare and repair parts, tools and test equipment, personnel training and training equipment, technical data and publications, warranties, U.S. Government and contractor engineering, technical, and logistics support services, and other related elements of logistics support. The estimated cost is $200 million.

This proposed sale will contribute to the foreign policy and national security of the United States by helping to improve the security and capability of a staunch NATO ally. Poland continues to be an important force for political stability and economic progress in Central Europe.

The proposed sale will further standardize the air navigation and approach radar capabilities of Poland, increasing aviation safety across the country and region. This is a continuation of a modernization program started several years ago. Delivery of this system will support Poland's F-16 and C-130 programs and the USAF Aviation Detachment.

The proposed sale of this equipment and support will not alter the basic military balance in the region.

The prime contractor will be ITT Exelis Inc. in Van Nuys, California. There are no known offset agreements proposed in connection with this potential sale at this time.

Implementation of this proposed sale will not require the assignment of any additional U.S. Government or contractor representatives to Poland.

There will be no adverse impact on U.S. defense readiness as a result of this proposed sale.

[FR Doc. 2012-17720 Filed 7-19-12; 8:45 am]

BILLING CODE 5001-06-P